DEPARTMENT OF THE INTERIOR

Bureau of Land Management

[LLWY-957400-09-L14200000-BJ0000]

Notice of Filing of Plats of Survey, Nebraska

AGENCY: Bureau of Land Management, Interior.

ACTION: Notice of filing of plats of survey, Nebraska.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the National Park Service and is necessary for the management of these lands. The lands surveyed are:

The plat representing the entire record of the survey of Tract No. 37, Township 32 North, Range 3 East, of the Sixth Principal Meridian, Nebraska, was accepted March 6, 2009.

Copies of the preceding described plat are available to the public at a cost of $1.10 per page.

Dated: March 6, 2009.
John P. Lee,
Chief Cadastral Surveyor, Division of Support Services.

[FR Doc. E9-5354 Filed 3-11-09; 8:45 am]

BILLING CODE 4467-22-P